NUCLEAR REGULATORY COMMISSION

[Docket No. 040-02384-CivP; EA 99-290; ASLBP No. 02-797-01-CivP]

Earthline Technologies; Establishment of Atomic Safety and Licensing Board

Pursuant to delegation by the Commission dated December 29, 1972, published in the Federal Register, 37 FR 28,710 (1972), and Sections 2.205, 2.700, 2.702, 2.714, 2.714a, 2.717, 2.721, and 2.772(j) of the Commission's Regulations, all as amended, an Atomic Safety and Licensing Board is being established to preside over the following proceeding:

Earthline Technologies, Order Imposing Civil Monetary Penalty.

This Board is being established pursuant to the request of Earthline Technologies (previously known as RMI Environmental Services) for a hearing regarding an Order issued by the Deputy Executive Director for Materials, Research, and State Programs, dated January 15, 2002, entitled “Order Imposing Civil Monetary Penalty” (67 FR 3,917 (Jan. 28, 2002)).

The Board is comprised of the following administrative judges:

Charles Bechhoefer, Chairman, Atomic Safety and Licensing Board Panel, U.S. Nuclear Regulatory Commission, Washington, DC 20555-0001.

G. Paul Bollwerk, III, Atomic Safety and Licensing Board Panel, U.S. Nuclear Regulatory Commission, Washington, DC 20555-0001.

Dr. Richard F. Cole, Atomic Safety and Licensing Board Panel, U.S. Nuclear Regulatory Commission, Washington, DC 20555-0001.

All correspondence, documents and other materials shall be filed with the Panel Judges in accordance with 10 CFR 2.701.

Issued at Rockville, Maryland, this 6th day of March 2002.
G. Paul Bollwerk, III,
Chief Administrative Judge, Atomic Safety and Licensing Board Panel.

[FR Doc. 02-5873 Filed 3-11-02; 8:45 am]

BILLING CODE 7590-01-P